DEPARTMENT OF DEFENSE

Office of the Secretary

[Docket ID DOD-2017-OS-0005]

Privacy Act of 1974; System of Records

AGENCY: Office of the Secretary of Defense, DoD.

ACTION: Notice to alter a System of Records.

SUMMARY: Pursuant to the Privacy Act of 1974, and Office of Management and Budget (OMB) Circular No. A-130, notice is hereby given that the Office of the Secretary of Defense proposes to alter a system of records, DPR 45 DoD, entitled “Military OneSource (MOS) Case Management System (CMS)”. Military OneSource (MOS) is an Outreach Web site for the purpose of providing comprehensive information to members of the Armed Forces and their families about the benefits and services that are available to them. The covered benefits and services that are relevant to Military OneSource include information regarding financial compensation including financial counseling, educational assistance and benefits, relocation planning and preparation, quality of life programs, and family and community programs. The MOS is a Department of Defense-funded program (non-personal services contract) providing comprehensive information on every aspect of military life at no cost to Active Duty, Guard and Reserve Service members, and their families. These services are available 24 hours a day by telephone and online from any location in the world.

This update reflects considerable administrative changes that in sum warrant an alteration to the systems of records notice. The applicable DoD Routine Uses have been incorporated in the notice to provide clarity for the public. Additionally, the categories records, authority for maintenance of the system, the purpose, retrievability, safeguards, retention and disposal, notification and record access procedures, and the contesting procedures.

DATES: Comments will be accepted on or before February 23, 2017. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or at the Defense Privacy, Civil Liberties and Transparency Division Web site at http://dpcld.defense.gov/.

The proposed system report, as required by 5 U.S.C. 552a(r) of the Privacy Act of 1974, as amended, was submitted on January 5, 2017, to the House Committee on Oversight and Government Reform, the Senate Committee on Governmental Affairs, and the Office of Management and Budget (OMB) pursuant to paragraph 4 of Appendix I to OMB Circular No. A-130, “Federal Agency Responsibilities for Maintaining Records About Individuals,” revised November 28, 2000 (December 12, 2000 65 FR 77677).

Dated: January 17, 2017.
Aaron Siegel,
Alternate OSD Federal Register Liaison Officer, Department of Defense.

DPR 45 DoD

System Name:

Military OneSource (MOS) Case Management System (CMS) (February 11, 2015, 80 FR 7579)

Changes:

* * * * *

Categories of Records in the System:

Delete entry and replace with “Individual's full name, date of birth, gender, marital status, relationship to service member, rank, unit, branch of military service, military status, current address and mailing address, telephone numbers (work/home/cell/DSN) and participant authorization or refusal to allow incoming/outgoing text messages between participant and Military OneSource, email address, participant ID and case number (automatically generated internal numbers not provided to the participant), presenting issue/information requested, handoff type to contractor, handoff notes, if interpretation is requested and the language, referrals, and feedback from quality assurance follow-up with participants.

Learning Management System: User account name, course history (attempted dates/times, grades), member type, agency, installation, unit, and service provider affiliation.

Non-medical counseling information: Psychosocial history, assessment of personal concerns, provider name, phone number, and location, authorization number, and outcome summary.”

Authority for Maintenance of the System:

Delete entry and replace with “10 U.S.C. 136, Under Secretary of Defense for Personnel and Readiness; 10 U.S.C. 1781 note, Establishment of Online Resources To Provide Information About Benefits and Services Available to Members of the Armed Forces and Their Families; DoD Directive 1404.10, DoD Civilian Expeditionary Workforce; DoD Directive 1322.18, Military Training; DoD Instruction (DoDI) 1342.22, Military Family Readiness; DoDI 6490.06, Counseling Services for DoD Military, Guard and Reserve, Certain Affiliated Personnel, and Their Family Members; and DoDI 1322.26, Development, Management, and Delivery of Distributed Learning.”

Purpose:

Delete entry and replace with “MOS CMS allows the documentation of an individual's eligibility; identification of the caller's inquiry or issue to provide a warm hand-off, referral and/or requested information; the development towards a final solution and referral information. The system also processes training registration, enrollment requests, and self-motivated education/training for its Learning Management System. Records may be used as a management tool for statistical analysis, tracking, reporting, and evaluating program effectiveness and conducting research. Information about individuals indicating a threat to self or others will be reported to the appropriate authorities in accordance with DoD/Military Branch of Service and Component regulations and established protocols.”

Routine Uses of Records Maintained in the System, Including Categories of Users and the Purposes of Such Uses:

Delete entry and replace with “In addition to those disclosures generally permitted under 5 U.S.C. 552a(b) of the Privacy Act of 1974, as amended, these records may specifically be disclosed outside the DoD as a routine use pursuant to 5 U.S.C 552a(b)(3) as follows:

To authorized DoD MOS contractors for the purpose of responding to Service member or family member need.

To contractors and grantees for the purpose of supporting research studies concerned with the effectiveness of non-medical counseling interventions.

To local law enforcement entities for the purpose of intervention to prevent harm to the individual (self) in accordance with DoD/Military Branch of Service and Component regulations and established protocols.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

* * * * *

Retrievability:

Delete entry and replace with “Information is retrieved by the participant's full name, or user account name (for the Learning Management System).”

Safeguards:

Delete entry and replace with “MOS CMS is hosted on a certified and accredited infrastructure. Records are maintained in a secure building in a controlled area accessible only to authorized personnel. Physical entry is restricted by the use of locks and passwords and administrative procedures which are changed periodically. The system is designed with access controls, comprehensive intrusion detection, and virus protection. Access to personally identifiable information in this system is role based and restricted to those who require the data in the performance of their official duties and have completed annual information assurance and privacy training. Records are encrypted during transmission to protect session information, and while not in use (data at rest).”

Retention and Disposal:

Delete entry and replace with “Master database files: Close after 3 years of continuous inactivity or notification of discharge, retirement or separation of the service member, then destroy 10 years after closed.

Non-medical counseling records: Close after 3 years of continuous inactivity or notification of discharge, retirement or separation of the service member, then destroy 15 years after closed.

Training records: Close annually upon completion of training, then destroy 5 years after closed.

Call center recordings: Close after referral to non-medical counseling, employee assistance program support, information and referral, then destroy after 90 days.”

* * * * *

Notification Procedures:

Delete entry and replace with “Individuals seeking to determine if information about themselves is contained in this record system should address inquiries to the appropriate system manager.

Signed, written requests should include the individual's full name, current address, and telephone number.

In addition, the requester must provide a notarized statement or an unsworn declaration made in accordance with 28 U.S.C. 1746, in the following format:

If executed outside the United States: ‘I declare (or certify, verify, or state) under penalty of perjury under the laws of the United States of America that the foregoing is true and correct. Executed on [date]. [Signature].’

If executed within the United States, its territories, possessions, or commonwealths: ‘I declare (or certify, verify, or state) under penalty of perjury that the foregoing is true and correct. Executed on [date]. [Signature]’.”

Record Access Procedures:

Delete entry and replace with “Individuals seeking to determine if information about themselves is contained in this record system should address inquiries to the Office of the Secretary of Defense/Joint Staff Freedom of Information Act Requester Service Center, 1155 Defense Pentagon, Washington DC 20301-1155.

Signed, written requests should include the individual's full name, current address, and telephone number, and the name and number of this system of records notice.

In addition, the requester must provide a notarized statement or an unsworn declaration made in accordance with 28 U.S.C. 1746, in the following format:

If executed outside the United States: ‘I declare (or certify, verify, or state) under penalty of perjury under the laws of the United States of America that the foregoing is true and correct. Executed on [date]. [Signature].’

If executed within the United States, its territories, possessions, or commonwealths: ‘I declare (or certify, verify, or state) under penalty of perjury that the foregoing is true and correct. Executed on [date]. [Signature]’.”

Contesting Record Procedures:

Delete entry and replace with “The Office of the Secretary of Defense (OSD) rules for accessing records, for contesting contents, and appealing initial agency determinations are published in OSD Administrative Instruction 81; 32 CFR part 311, or may be obtained from the system manager.”

* * * * *

[FR Doc. 2017-01450 Filed 1-23-17; 8:45 am]

BILLING CODE 5001-06-P